INTERNATIONAL TRADE COMMISSION

[Investigation No. 337-TA-1354]

Certain Universal Golf Club Shaft and Golf Club Head Connection Adaptors, Certain Components Thereof, and Products Containing the Same (II); Notice of a Commission Determination To Issue a Limited Exclusion Order; Termination of the Investigation

AGENCY: U.S. International Trade Commission.

ACTION: Notice.

SUMMARY: Notice is hereby given that the U.S. International Trade Commission (“Commission”) has determined to issue a limited exclusion order (“LEO”) barring entry of certain universal golf club shaft and golf club head connection adaptors, certain components thereof, and products containing the same that are imported by or on behalf of Respondents Top Golf Equipment Co. Limited (“Top Golf”), Volf Sports Co. LTD, and WoFu(Shenzhen)Sports Goods Co., Ltd. (collectively, “Respondents”).

FOR FURTHER INFORMATION CONTACT: Edward S. Jou, Esq., Office of the General Counsel, U.S. International Trade Commission, 500 E Street SW, Washington, DC 20436, telephone (202) 205-3316. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On March 8, 2023, the Commission instituted this investigation based on a complaint filed by Club-Conex LLC of Scottsdale, Arizona (“Complainant”). 86 FR 14393 (Mar. 8, 2023). The complaint alleged violations of section 337 of the Tariff Act of 1930, as amended, 19 U.S.C. 1337, due to the importation into the United States, sale for importation, or sale in the United States after importation of certain universal golf club shaft and golf club head connection adaptors, certain components thereof, and products containing the same by reason of infringement of certain claims of U.S. Patent No. 11,426,638 (“the '638 patent”). Id. The complaint also alleged the existence of a domestic industry. Id. The notice of investigation named as respondents Top Golf Equipment Co. Limited, d/b/a All-Fit Golf of Shenzhen, China; Volf Sports Co. LTD of Shenzhen, China; and WoFu(Shenzhen)Sports Goods Co., Ltd. of Shenzhen, China (collectively, “Respondents”). Id. The Office of Unfair Import Investigations was not named as a party. Id.

None of the Respondents answered the complaint and notice of investigation or appeared in the investigation, and on April 6, 2023, Complainant moved for an order directing Respondents to show cause as to why they should not be found in default. Complainant stated in its motion that it does not seek a general exclusion order. Mot. at 6 n.5. On April 25, 2023, the ALJ issued Order No. 6, directing Respondents to show cause, no later than May 10, 2023, as to why they should not be found in default. Order No. 6 at 2 (Apr. 25, 2023). No response to the show cause order was filed.

On May 17, 2023, the ALJ issued Order No. 7, finding Respondents in default pursuant to 19 CFR 210.16. The Commission determined not to review Order No. 7 on July 13, 2023, and issued a notice requesting submissions on remedy, public interest, and bonding. Comm'n Notice, 88 FR 46183 (July 19, 2023).

On July 27, 2023, Complainant responded to the Commission's Notice by filing a submission on remedy, public interest, and bonding, seeking a limited exclusion order (“LEO”) against the Respondents and a bond in the amount of one hundred percent (100%) of entered value. No other submissions were filed.

When the conditions in section 337(g)(1)(A)-(g)(1)(E) (19 U.S.C. 1337(g)(1)(A)-(g)(1)(E)) have been satisfied, section 337(g)(1) and Commission Rule 210.16(c) (19 CFR 210.16(c)) direct the Commission, upon request, to issue a limited exclusion order or a cease and desist order or both against a respondent found in default, based on the allegations regarding a violation of section 337 in the Complaint, which are presumed to be true, unless after consideration of the public interest factors in section 337(g)(1), it finds that such relief should not issue.

Having examined the record in this investigation, the Commission has determined pursuant to section 337(g)(1) and Commission Rule 210.16(c) to issue an LEO prohibiting the unlicensed entry of certain universal golf club shaft and golf club head connection adapters, certain components thereof, and products containing the same that infringe one or more of claims 1, 2-5, 10, 12-13, 15, and 16-19 of the '638 patent that are manufactured abroad by, or on behalf of, or imported by or on behalf of the Respondents. The Commission has determined that the public interest factors enumerated in section 337(g)(1) do not preclude the issuance of the LEO. The Commission has further determined that the bond during the period of Presidential review pursuant to section 337(j) (19 U.S.C. 1337(j)) shall be set in the amount of one hundred percent (100%) of the entered value of the imported articles that are subject to the LEO.¹ The investigation is hereby terminated.

¹ Commissioner Schmidtlein finds that section 337 does not authorize respondents subject to remedial relief under subsection 337(g)(1) to import infringing products under bond during the Presidential review period for the reasons explained in Certain Centrifuge Utility Platform and Falling Film Evaporator Systems and Components Thereof, Inv. No. 337-TA-1311, Comm'n Notice at 5, n.5 (March 23, 2023). She therefore would not permit the Respondents to import infringing products under bond during the Presidential review period.

While temporary remote operating procedures are in place in response to COVID-19, the Office of the Secretary is not able to serve parties that have not retained counsel or otherwise provided a point of contact for electronic service. Accordingly, pursuant to Commission Rules 201.16(a) and 210.7(a)(1) (19 CFR 201.16(a), 210.7(a)(1)), the Commission orders that the Complainant(s) complete service for any party/parties without a method of electronic service noted on the attached Certificate of Service and shall file proof of service on the Electronic Document Information System (EDIS).

The Commission vote for this determination took place on September 18, 2023.

The authority for the Commission's determination is contained in section 337 of the Tariff Act of 1930, as amended (19 U.S.C. 1337), and in part 210 of the Commission's Rules of Practice and Procedure (19 CFR part 210).

By order of the Commission.
Issued: September 18, 2023.
Sharon Bellamy,
Supervisory Hearings and Information Officer.

[FR Doc. 2023-20527 Filed 9-21-23; 8:45 am]

BILLING CODE 7020-02-P